DEPARTMENT OF COMMERCE

Foreign-Trade Zones Board

[Order No. 1762]

Reorganization and Expansion of Foreign-Trade Zone 50 Under Alternative Site Framework; Long Beach, CA

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the Board of Harbor Commissioners of the Port of Long Beach, California, grantee of Foreign-Trade Zone 50, submitted an application to the Board (FTZ Docket 65-2010, filed 11/08/2010) for authority to reorganize and expand under the ASF with a service area of Orange County and portions of Los Angeles and San Bernardino Counties, California, within and adjacent to the Los Angeles/Long Beach U.S. Customs and Border Protection port of entry, FTZ 50's existing Sites 1 through 8, 10 and 14 through 18 would be categorized as magnet sites, and existing Sites 9 and 11 through 13 would be categorized as usage-driven sites, and the grantee proposes five additional usage-driven sites (Sites 19 through 23);

Whereas, notice inviting public comment was given in the Federal Register (75 FR 69621-69622, 11/15/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize and expand FTZ 50 under the alternative site framework is approved, subject to the FTZ Act and the Board's regulations, including Section 400.28, to the Board's standard 2,000-acre activation limit for the overall general-purpose zone project, to a five-year ASF sunset provision for magnet sites that would terminate authority for Sites 1, 3 through 8, 10 and 14 through 18 if not activated by May 31, 2016, and to a three-year ASF sunset provision for usage-driven sites that would terminate authority for Sites 9, 11 through 13 and 19 through 23 if no foreign-status merchandise is admitted for a bona fide customs purpose by May 31, 2014.

Signed at Washington, DC, this 13th day of May 2011.
Ronald K. Lorentzen,
Deputy Assistant Secretary for Import Administration, Alternate Chairman, Foreign-Trade Zones Board.
Andrew McGilvray,
Executive Secretary.

[FR Doc. 2011-12660 Filed 5-20-11; 8:45 am]

BILLING CODE 3510-DS-P